DEPARTMENT OF DEFENSE

Department of the Air Force

[Docket ID: USAF-2020-HQ-0008]

Proposed Collection; Comment Request

AGENCY: Office of the Assistant Secretary of the Air Force, Department of Defense (DoD).

ACTION: Information collection notice.

SUMMARY: In compliance with the Paperwork Reduction Act of 1995, the Office of the Assistant Secretary of the Air Force announces a proposed public information collection and seeks public comment on the provisions thereof. Comments are invited on: Whether the proposed collection of information is necessary for the proper performance of the functions of the agency, including whether the information shall have practical utility; the accuracy of the agency's estimate of the burden of the proposed information collection; ways to enhance the quality, utility, and clarity of the information to be collected; and ways to minimize the burden of the information collection on respondents, including through the use of automated collection techniques or other forms of information technology.

DATES: Consideration will be given to all comments received by July 28, 2020.

ADDRESSES: You may submit comments, identified by docket number and title, by any of the following methods:

Federal eRulemaking Portal: http://www.regulations.gov. Follow the instructions for submitting comments.

Mail: DoD cannot receive written comments at this time due to the COVID-19 pandemic. Comments should be sent electronically to the docket listed above.

Instructions: All submissions received must include the agency name, docket number and title for this Federal Register document. The general policy for comments and other submissions from members of the public is to make these submissions available for public viewing on the internet at http://www.regulations.gov as they are received without change, including any personal identifiers or contact information.

FOR FURTHER INFORMATION CONTACT: To request more information on this proposed information collection or to obtain a copy of the proposal and associated collection instruments, please write to Angela James, Office of Information Management, DoD, at whs.mc-alex.esd.mbx.dd-dod-information-collections@mail.mil or call 571-372-7574.

SUPPLEMENTARY INFORMATION: Title; Associated Form; and OMB Number: Verification of Graduation; AFRS Form 1413, AF Form 215; OMB Control Number 0701-0080.

Needs and Uses: Title 10, U.S.C. 9411 provides for the commissioning of officers in the Armed Forces: Air Force Manual 36-2032 implements the policy. Air Force Recruiting Service (AFRS) SOPG, Section H, provides procedures. Air Force Instruction 36-2105 provides the policy for age limitations for applying for flying training, whether through a commissioning source or for commissioned officers who wish to crosstrain and apply for flying training.

AFRS applicants use AFRS Form 1413 as part of each application that is submitted for consideration by the Air Force Officer Training School (OTS) selection board.

Air Force Personnel Center (AFPC) uses the AF Form 215 as part of each application that is submitted for consideration by commissioned officers who wish to attend undergraduate flying training (UFT).

Affected Public:

AFRS Form 1413: Individuals and Households.

AF Form 215: Individuals and Households.

Annual Burden Hours:

AFRS Form 1413: 250 hours.

AF Form 215: 125 hours.

Total Burden: 375 hours.

Number of Respondents:

AFRS Form 1413: 500.

AF Form 215: 250.

Total Respondents: 750.

Responses per Respondent:

AFRS Form 1413: 1.

AF Form 215: 1.

Total Responses per Respondent: 1.

Annual Responses:

AFRS Form 1413: 500.

AF Form 215: 250.

Total Annual Responses: 750.

Average Burden per Response:

AFRS Form 1413: 30 minutes.

AF Form 215: 30 minutes.

Total Average Burden per Responses: 30 minutes.

Frequency: On occasion.

Dated: May 22, 2020.
Aaron T. Siegel,
Alternate OSD Federal Register Liaison Officer, Department of Defense.

[FR Doc. 2020-11527 Filed 5-28-20; 8:45 am]

BILLING CODE 5001-06-P